EQUAL EMPLOYMENT OPPORTUNITY COMMISSION

Agency Information Collection Activities: Existing Collection

AGENCY: Equal Employment Opportunity Commission.

ACTION: Notice of Information Collection—Extension Without Change: State and Local Government Information (EEO-4).

SUMMARY: In accordance with the Paperwork Reduction Act (PRA), the Equal Employment Opportunity Commission (EEOC or Commission) announces that it intends to submit to the Office of Management and Budget (OMB) a request for a three-year extension without change of the State and Local Government Information (EEO-4).

DATES: Written comments on this notice must be submitted on or before March 22, 2021.

ADDRESSES: You may submit comments by any of the following methods—please use only one method:

Federal eRulemaking Portal: http://www.regulations.gov. Follow the instructions on the website for submitting comments.

Mail: Comments may be submitted by mail to Rachel See, Acting Executive Officer, Executive Secretariat, Equal Employment Opportunity Commission, 131 M Street NE, Washington, DC 20507.

Fax: Comments totaling six or fewer pages can be sent by facsimile (“fax”) machine to (202) 663-4114. (This is not a toll-free number.) Receipt of fax transmittals will not be acknowledged, except that the sender may request confirmation of receipt by calling the Executive Secretariat staff at (202) 663-4070 (voice) or 800-669-6820 (TTY). (These are not toll-free telephone numbers.)

Instructions: All comments received must include the agency name and docket number. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Although copies of comments received are usually also available for review at the Commission's library, given the EEOC's current 100% telework status due to the Coronavirus Disease 2019 (COVID-19) public health emergency, the Commission's library is closed until further notice. Once the Commission's library is re-opened, copies of comments received in response to this notice will be made available for viewing by appointment only at 131 M Street NE, Suite 4NW08R, Washington, DC 20507, between the hours of 9:30 a.m. and 5:00 p.m.

FOR FURTHER INFORMATION CONTACT: Rashida Dorsey, Employer Data Team, Data Development and Information Products Division, Equal Employment Opportunity Commission, 131 M Street NE, Room 4SW32J, Washington, DC 20507; (202) 663-4355 (voice), (202) 663-7063 (TTY) or email at Rashida.dorsey@eeoc.gov.

SUPPLEMENTARY INFORMATION: Pursuant to the Paperwork Reduction Act of 1995 and OMB regulation 5 CFR 1320.8(d)(1), the Commission solicits public comment to enable it to: (1) Evaluate whether the proposed collection of information is necessary for the proper performance of the Commission's functions, including whether the information will have practical utility; (2) Evaluate the accuracy of the Commission's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

Overview of Information Collection

Collection Title: State and Local Government Information (EEO-4).

OMB-Number: 3046-0008.

Frequency of Report: Biennial, odd years.

Type of Respondent: State and local governments with 100 or more employees within the 50 U.S. states and District of Columbia.

Description of Affected Public: State and local governments with 100 or more employees within the 50 U.S. states and District of Columbia.

Reporting Hours: 95,542 per biennial collection.

Respondent Cost: $4,719,509.02 per biennial collection.

Federal Cost: $386,609.20 per biennial collection.

Number of Respondents: 5,687.

Number of Responses: 13,649.

Number of Forms: 1.

Form Number: EEOC Form 164.

Abstract: Section 709(c) of Title VII of the Civil Rights Act of 1964, as amended, 42 U.S.C. 2000e-8(c), requires State and local governments to make and keep records relevant to a determination of whether unlawful employment practices have been or are being committed and produce reports required by the EEOC. Accordingly, the EEOC issued regulations, 29 CFR 1602.30 and 1602.32-.37, which set forth the reporting requirements and related record retention policies for State and local governments. 29 CFR 1602.30 requires every covered State and local government to make or keep all records necessary for completion of an EEO-4 submission and retain those records for three years. 29 CFR 1602.32 requires filers to retain a copy of each filed EEO-4 report for three years. These requirements are related to record keeping which is part of standard administrative practices, and as a result, the EEOC believes that any impact on burden would be negligible and nearly impossible to quantify. State and local governments with 100 or more employees have been required to submit EEO-4 reports since 1974 (biennially since 1993). The EEOC uses EEO-4 data for research and to investigate charges of discrimination. The individual reports are confidential.

Burden Statement: The methodology for calculating annual burden reflects the different staff that are responsible for preparing and filing the EEO-4. These estimates are based on the estimated submission time of 7 hours per reporting unit, as published in the 2018 EEO-4 Information Collection Review as required by the Paperwork Reduction Act.¹ The EEOC accounts for time to be spent biennially on EEO-4 reporting by senior and administrative staff, as well as time spent by attorneys who may consult briefly during the reporting process. The estimated number of respondents included in the biennial EEO-4 survey is 5,687 State and local governments, as this is the average number of reporting units between 2005 and 2019. These 5,687 respondents will submit an estimated 13,649 reports during each biennial reporting cycle. The estimated hour burden per report will be 7 hours, and the estimated total biennial respondent burden hours will be 95,542. Burden hour cost was calculated using median hourly wage rates for administrative staff and legal counsel, and average hourly wage rates for State and local government staff. The burden hour cost per report will be $214.77, and the estimated total burden hour cost per biennial collection will be $4,719,509.02 (See Table 1 for calculations).

¹ Please see here for more information: https://www.reginfo.gov/public/do/PRAViewICR?ref_nbr=201804-3046-001.

Table 1—Estimate of Burden for EEO-4 Report
| Hourly wage rate ² | Burden hours per government entity | Cost per local | Total burden hours | Total burden hour cost ³
| Number Reporting Units = 5,687 |  |  |  | Number of Records Submitted= 13,649
Chief Executive | $52.90 | 0.35 | $18.52 | 4,777.1 | $88,447.64
Legal Counsel | 50.50 | 0.35 | 17.68 | 4,777.1 | 84,434.89
Computer Support Specialist (IT Professional) | 29.75 | 0.7 | 20.83 | 9,554.2 | 198,965.38
Executive Administrative Staff | 27.40 | 1.4 | 38.36 | 19,108.3 | 732,995.16
Human Resource Specialist | 32.59 | 2.45 | 79.85 | 33,439.6 | 2,669,998.39
Payroll Clerks | 22.60 | 1.75 | 39.55 | 23,885.4 | 944,667.57
Sub Total | N/A | 7 | 214.77 | 95,542 | 4,719,509.02

These estimates are based upon filers' use of the EEO-4 online filing system to submit reports. The EEOC has made electronic submission much easier for respondents required to file the EEO-4 Report and as a result, more respondents are using this electronic filing method. During the 2019 EEO-4 data collection cycle, 4,988 EEO-4 filers completed and certified their submission. Of the 4,988 EEO-4 filers who submitted data in 2019, 5% uploaded a data file, 91% filed through the online application, and 4% submitted paper records. Electronic filing remains the most efficient, accurate, and secure means of reporting for respondents required to submit the EEO-4 report. Accordingly, the EEOC will continue to encourage EEO-4 filers to submit data through electronic filing, and will only accept paper records from filers who have secured permission to submit data via paper submission.

² Occupational titles and wages are from the Bureau of Labor Statistics' National Industry-Specific Occupational Employment and Wage Estimates—NAICS 999000—Federal, State, and local Government, excluding state and local schools and hospitals and the U.S. Postal Service: https://www.bls.gov/oes/current/naics3_999000.htm#11-0000. The wages cited are median hourly wages.

³ Burden hour cost is estimated by multiplying the `Cost Per Local' column by the `Total Burden Hours' column.

For the Commission.
Janet Dhillon,
Chair.

[FR Doc. 2021-01056 Filed 1-15-21; 8:45 am]

BILLING CODE 6570-01-P